DEPARTMENT OF LABOR

Employment and Training Administration

[TA-W-54,870B]

J&L Specialty Steel, LLC, Louisville Plant, Louisville, OH; Notice of Termination of Investigation

Pursuant to Section 221 of the Trade Act of 1974, as amended, an investigation was initiated on May 10, 2004 in response to a petition filed by a company official on behalf of workers of J&L Specialty Steel, LLC, Louisville Plant, Louisville, Ohio.

The petitioning group of workers is covered by an active certification issued on September 9, 2002 which remains in effect until September 9, 2004 (TA-W-39,575). Consequently, further investigation in this case would serve no purpose, and the investigation has been terminated.

Signed in Washington, DC, this 23rd day of June, 2004.
Linda G. Poole,
Certifying Officer, Division of Trade Adjustment Assistance.

[FR Doc. 04-15320 Filed 7-6-04; 8:45 am]

BILLING CODE 4510-30-P